SOCIAL SECURITY ADMINISTRATION

[Docket No. SSA 2018-0010]

Privacy Act of 1974; Matching Program

AGENCY: Social Security Administration (SSA).

ACTION: Notice of a New Matching Program.

SUMMARY: In accordance with the provisions of the Privacy Act, as amended, this notice announces a new matching program with the Bureau of the Fiscal Service (Fiscal Service), Department of the Treasury (Treasury).

This matching agreement sets forth the terms, conditions, safeguards, and procedures under which Fiscal Service, Treasury will disclose savings security data (as described in section VI.D) to SSA. SSA will use the data to determine continued eligibility for Supplemental Security Income (SSI) applicants and recipients, or the correct benefit amount for recipients and deemors who did not report or incorrectly reported ownership of savings securities.

DATES: The deadline to submit comments on the proposed matching program is 30 days from the date of publication in the Federal Register. The matching program will be applicable on December 26, 2018 and will expire on June 25, 2020, or once a minimum of 30 days after publication of this notice has elapsed, whichever is later. The matching program will be in effect for a period of 18 months.

ADDRESSES: Interested parties may comment on this notice by either telefaxing to (410) 966-0869, writing to Mary Ann Zimmerman, Acting Executive Director, Office of Privacy and Disclosure, Office of the General Counsel, Social Security Administration, G-401 WHR Building, 6401 Security Boulevard, Baltimore, MD 21235-6401, or email at Mary.Ann.Zimmerman@ssa.gov. All comments received will be available for public inspection by contacting Ms. Zimmerman at this street address.

FOR FURTHER INFORMATION CONTACT: Interested parties may submit general questions about the matching program to Mary Ann Zimmerman, Acting Executive Director, Office of Privacy and Disclosure, Office of the General Counsel, by any of the means shown above.

SUPPLEMENTARY INFORMATION: None.

Mary Zimmerman,
Acting Executive Director, Office of Privacy and Disclosure, Office of the General Counsel.

PARTICIPATING AGENCIES: SSA and Fiscal Service, Treasury.

AUTHORITY FOR CONDUCTING THE MATCHING PROGRAM: The legal authority for this agreement is executed in compliance with the Privacy Act of 1974, as amended by the Computer Matching and Privacy Protection Act of 1988, the regulations and guidance promulgated thereunder. Legal authority for the disclosure under this agreement is contained in sections 1631(e)(1)(B), and (f) of the Social Security Act (Act), (42 U.S.C. 1383(e)(1)(B), and (f)).

PURPOSE(S): The purpose of this matching program is to set forth the terms, conditions, safeguards, and procedures under which Fiscal Service, Treasury will disclose savings security data (as described in section VI.D) to SSA. SSA will use the data to determine continued eligibility for Supplemental Security Income applicants and recipients, or the correct benefit amount for recipients and deemors who did not report or incorrectly reported ownership of savings securities.

CATEGORIES OF INDIVIDUALS: The individuals whose information is involved in this matching program are SSI applicants, recipients, and deemors who did not report, or incorrectly reported, ownership of savings securities.

CATEGORIES OF RECORDS: SSA will provide Fiscal Service with a finder file containing the Social Security numbers (SSN) and name of each individual for whom SSA requests savings security information. When a match occurs on an SSN, Fiscal Service will disclose to SSA: The denomination of the security; the serial number; the series; the issue date of the security; the current redemption value; and the return date of the finder file.

SYSTEM(S) OF RECORDS: The relevant SSA system of records (SOR) is “Supplemental Security Income Record and Special Veterans Benefits, Social Security Administration,” 60-0103. The SOR Notice (SORN) was fully published on January 11, 2006 at 71 FR 1830 and updated on December 10, 2007 at 72 FR 69723. The relevant Fiscal Service SORs are Treasury/BPD.002, United States Savings Type Securities, and Treasury/BPD.008, Retail Treasury Securities Access Application. The SORNs were last published on August 17, 2011 at 76 FR 51128.

[FR Doc. 2018-24085 Filed 11-2-18; 8:45 am]

BILLING CODE 4191-02-P